AGENCY FOR INTERNATIONAL DEVELOPMENT

Notice of Public Information Collection Requirements Submitted to OMB for Review

SUMMARY: U.S. Agency for International Development (USAID) has submitted the following information collection to OMB for review and clearance under the Paperwork Reduction Act of 1995, Pub. L. 104-13. Comments regarding this information collection are best assured of having their full effect if received within 30 days of this notification. Comments should be addressed to: Desk Officer of Management and Budget (OMB), Washington, DC 20503. Copies of the information collection and supporting documents may be obtained by calling (202) 712-1365.

SUPPLEMENTARY INFORMATION: OMB Number: OMB 0412-0556.

Form Number: N/A.

Title: Monetization Report.

Type of Submission: Renewal of Information Collection.

Purpose: The Monetization Report is used to help the U.S. Agency for International Development (USAID) Missions determine the status of the commodities monetized by the Cooperating Sponsors under the Public Law 480 title II program. The Monetization Profile provides USAID Missions with a checklist of important questions about the Cooperating Sponsors' monetization transactions. The Cooperating Sponsors verify the Free Along-side Ship (FAS) price quotation that has been provided by USAID's Office of Food for Peace, the foreign flag estimate or rate, the sales price obtained, and the method for which the commodities have been sold. All of this information is necessary for USAID Missions to collect verifiable information and to determine that Cooperating Sponsors are meeting USAID's cost recovery benchmark.

Annual Reporting Burden:

Respondents: 20.

Total annual responses: 20.

Total annual hours requested: 240 hours.

Dated: March 4, 2003.
Joanne Paskar,
Chief, Information and Records Division, Office of Administrative Services, Bureau of Management.

[FR Doc. 03-5940 Filed 3-11-03; 8:45 am]

BILLING CODE 6116-01-M